DEPARTMENT OF COMMERCE

National Oceanic and Atmospheric Administration

50 CFR Part 622

[I.D. 010302D]

RIN 0648-AL86

Fisheries of the Caribbean, Gulf of Mexico, and South Atlantic; Comprehensive Sustainable Fishery Act Amendment to the Fishery Management Plans of the U.S. Caribbean

AGENCY: National Marine Fisheries Service (NMFS), National Oceanic and Atmospheric Administration (NOAA), Commerce.

ACTION: Notice of availability; request for comments.

SUMMARY: NMFS announces that the Caribbean Fishery Management Council (Council) has submitted a Comprehensive Amendment Addressing Sustainable Fishery Act Definitions and Other Required Provisions of the Magnuson-Stevens Act in the Fishery Management Plans of the U.S. Caribbean (Comprehensive SFA Amendment) for review, approval, and implementation by NMFS. The Comprehensive SFA Amendment would define status determination criteria and overfishing thresholds (e.g., maximum sustainable yield (MSY), optimum yield (OY), minimum stock size threshold (MSST), and maximum fishing mortality threshold (MFMT)) for the species or species complexes under the Council's authority, establish rebuilding plans for three overfished species: queen conch, Nassau grouper, and goliath grouper (formerly known as jewfish), and modify existing or add new framework adjustment procedures to all Caribbean FMPs.

These new and modified framework procedures would allow timely modification/addition of required stock parameters and management measures relating to preventing overfishing and rebuilding overfished stocks. The proposed measures should result in improved management of U.S. Caribbean marine fishery resources.

In addition, the Comprehensive SFA Amendment also would provide descriptions of the U.S. Caribbean fisheries and fishing communities based on the best information available and recommend future establishment of a socio-economic data collection program and permanent expansion of NMFS' Marine Recreational Fisheries Statistical Survey to include Puerto Rico and the U.S. Virgin Islands to enhance the available information. The comprehensive SFA Amendment would also address bycatch in the fisheries managed under the Council's FMPs and recommend future development of a standardized bycatch reporting program.

DATES: Written comments must be received on or before March 26, 2002.

ADDRESSES: Written comments on the Comprehensive SFA Amendment should be sent to Peter Eldridge, Southeast Regional Office, NMFS, 9721 Executive Center Drive N., St. Petersburg, FL 33702. Comments may also be sent via fax to 727-570-5583. Comments will not be accepted if submitted via e-mail or the Internet.

Requests for copies of the Comprehensive SFA Amendment, which includes a regulatory impact review and an environmental assessment, should be sent to the Caribbean Fishery Management Council, 268 Munoz Rivera Ave., Suite 1108, San Juan, Puerto Rico 00918-1920; e-mail: Caribbean.council@noaa.gov.

FOR FURTHER INFORMATION CONTACT: Peter Eldridge, telephone: 727-570-5305; fax: 727-570-5583; e-mail: Peter.Eldridge@noaa.gov.

SUPPLEMENTARY INFORMATION: The Comprehensive SFA Amendment includes Amendment 2 to the FMP for Corals and Reef Associated Plants and Invertebrates, Amendment 1 to the FMP for Queen Conch Resources, Amendment 3 to the FMP for the Reef Fish Fishery, and Amendment 2 to the FMP for the Spiny Lobster Fishery. These FMPs were prepared by the Council, approved by NMFS, and implemented under the authority of the Magnuson-Stevens Act by regulations at 50 CFR part 622.

Section 303 of the Magnuson-Stevens Act requires, in part, that FMPs provide descriptions of the applicable fisheries and fishing communities; assess the amount and types of bycatch and include management measures that, to the extent practicable, minimize bycatch and bycatch mortality; specify objective and measurable criteria for identifying when a stock is overfished, i.e., status determination criteria; and rebuild stocks to achieve MSY. The Council developed its Comprehensive SFA Amendment to address these requirements.

The Comprehensive SFA Amendment would define status determination criteria and overfishing thresholds (e.g., maximum sustainable yield (MSY), optimum yield (OY), minimum stock size threshold (MSST), and maximum fishing mortality threshold (MFMT)) for the species or species complexes under the Council's authority, establish rebuilding plans for three overfished species: queen conch, Nassau grouper, and goliath grouper (formerly known as jewfish), and modify existing or add new framework adjustment procedures to all Caribbean FMPs.

Because information on U.S. Caribbean fisheries is sparse and incomplete, the fisheries can be classified as data-poor (among other parameters, biomass and fishing mortality rates are not available for most Caribbean fishery resources). Thus, managers must use biomass-based proxies for the MSY, OY, MFMT, and MSST parameters for the respective fishery resources. Formulae for the derivation of these proxies are presented in the Comprehensive SFA Amendment. In general, the MSY proxies are based on average landings of commercial fisheries for a specified time period. OY must be less than or equal to the MSY proxy. The proxies for MSST are defined either as the greater of (1—M) x Bmsy or 0.5 x Bmsy where M is the estimated instantaneous natural mortality rate and B is the estimated spawning biomass. MFMT is considered equal to the estimated M for the respective species or species complex. Values for each proxy, when available, are presented in the Comprehensive SFA Amendment. Assessment information provided in the Comprehensive SFA Amendment reflects conditions in the commercial fisheries. Due to lack of adequate catch and effort data, the status of recreational fisheries is currently unknown.

The NMFS 2000 Report to Congress on the Status of U.S. Fisheries listed Nassau grouper, goliath grouper, and queen conch as overfished in the U.S. Caribbean. The Comprehensive SFA Amendment would establish rebuilding timeframes for these species.

In addition, the Comprehensive SFA Amendment also would provide descriptions of the U.S. Caribbean fisheries and fishing communities based on the best information available and recommend future establishment of a socio-economic data collection program and permanent expansion of NMFS' Marine Recreational Fisheries Statistical Survey to include Puerto Rico and the U.S. Virgin Islands to enhance the available information. The comprehensive SFA Amendment would also address bycatch in the fisheries managed under the Council's FMPs and recommend future development of standardized bycatch reporting program.

NMFS is requesting comment on the proposed framework procedures, especially concerning any changes that would allow the public to comment more fully on proposed management measures. Also, NMFS invites comment concerning the types of information that should be collected to more precisely describe Caribbean fisheries and fishing communities.

Comments received by March 26, 2002, whether specifically directed to those management measures in the Comprehensive SFA Amendment that would amend the Caribbean FMPs or to the proposed rule that NMFS plans to publish that would implement the Comprehensive SFA Amendment, will be considered by NMFS in its decision to approve, disapprove, or partially approve those measures amending the FMPs. Comments received after that date will not be considered by NMFS in this decision. All comments received by NMFS on the Comprehensive SFA Amendment or the proposed rule during their respective comment periods will be addressed in the preamble of the final rule.

Authority: 16 U.S.C. 1801 et seq.

Dated: January 18, 2002.
Jonathan Kurland,
Acting Director, Office of Sustainable Fisheries, National Marine Fisheries Service.

[FR Doc. 02-1872 Filed 1-24-02; 8:45 am]

BILLING CODE 3510s-22-S